CORPORATION FOR NATIONAL AND COMMUNITY SERVICE

Agency Information Collection Activities; Comment Request; Package for AmeriCorps VISTA Application and Reporting Forms

AGENCY: Corporation for National and Community Service.

ACTION: Notice of information collection; request for comment.

SUMMARY: In accordance with the Paperwork Reduction Act of 1995, the Corporation for National and Community Service (operating as AmeriCorps) is proposing to revise an information collection.

DATES: Written comments must be submitted to the individual and office listed in the ADDRESSES section by January 16, 2024.

ADDRESSES: You may submit comments, identified by the title of the information collection activity, by any of the following methods:

(1) Electronically through www.regulations.gov (preferred method).

(2) By mail sent to: AmeriCorps, Attention Kelly Daly, 250 E Street SW, Washington, DC 20525.

(3) By hand delivery or by courier to the AmeriCorps mailroom at the mail address given in paragraph (2) above, between 9 a.m. and 4 p.m. Eastern Time, Monday through Friday, except Federal holidays.

Comments submitted in response to this notice may be made available to the public through regulations.gov. For this reason, please do not include in your comments information of a confidential nature, such as sensitive personal information or proprietary information. If you send an email comment, your email address will be automatically captured and included as part of the comment that is placed in the public docket and made available on the internet. Please note that responses to this public comment request containing any routine notice about the confidentiality of the communication will be treated as public comment that may be made available to the public, notwithstanding the inclusion of the routine notice.

FOR FURTHER INFORMATION CONTACT: Kelly Daly, 202-606-6849, or by email at kdaly@americorps.gov.

SUPPLEMENTARY INFORMATION:

Title of Collection: AmeriCorps VISTA Application and Reporting Forms.

OMB Control Number: 3045-0038 Type of Review: Revision.

Respondents/Affected Public: Businesses and Organizations AND/OR State, Local or Tribal Governments.

Total Estimated Number of Annual Responses: 750.

Total Estimated Number of Annual Burden Hours:17,500.

Abstract: AmeriCorps VISTA is revising its application and reporting package to reflect changes in the Support Grant budget instructions that allow for first-year Support Grant sponsors and to simplify instructions in both the Support and Program Grant budget instructions. The Concept Paper and Application Instructions are being revised to add information about the Unique Entity ID registration process on SAM.gov. The VISTA Progress Report and Progress Report Supplement were not revised. AmeriCorps also seeks to continue using the currently approved information collection until the revised information collection is approved by OMB. Once the revised information is approved by OMB, VISTA plans to use the revised forms through the remainder of Fiscal Year 2024 and until the launch of the new project and grant application system. The currently approved information collection is due to expire on March 31, 2024.

Comments submitted in response to this notice will be summarized and/or included in the request for OMB approval. Comments are invited on: (a) Whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of automated collection techniques or other forms of information technology; and (e) estimates of capital or start-up costs and costs of operation, maintenance, and purchase of services to provide information. Burden means the total time, effort, or financial resources expended by persons to generate, maintain, retain, disclose or provide information to or for a Federal agency. This includes the time needed to review instructions; to develop, acquire, install, and utilize technology and systems for the purpose of collecting, validating, and verifying information, processing and maintaining information, and disclosing and providing information; to train personnel and to be able to respond to a collection of information, to search data sources, to complete and review the collection of information; and to transmit or otherwise disclose the information. All written comments will be available for public inspection on regulations.gov.

Carly Bruder,
Acting Director, AmeriCorps VISTA.

[FR Doc. 2023-25405 Filed 11-16-23; 8:45 am]

BILLING CODE 6050-28-P